INTERNATIONAL TRADE COMMISSION

[Investigation No. 337-TA-664]

In the Matter of: Certain Flash Memory Chips and Products Containing Same; Notice of Commission Determination Not To Review an Initial Determination Granting Complainants' Unopposed Motion To Amend the Complaint and Notice of Investigation

AGENCY: U.S. International Trade Commission.

ACTION: Notice.

SUMMARY: Notice is hereby given that the U.S. International Trade Commission has determined not to review an initial determination (“ID”) (Order No. 35) of the presiding administrative law judge (“ALJ”) granting complainants' unopposed motion to amend the complaint and notice of investigation.

FOR FURTHER INFORMATION CONTACT: Panyin A. Hughes, Esq., Office of the General Counsel, U.S. International Trade Commission, 500 E Street, SW., Washington, DC 20436, telephone (202) 205-3042. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on December 18, 2008, based on a complaint filed by Spansion, Inc. of Sunnyvale, California and Spansion LLC of Sunnyvale, California (collectively, “Spansion”). The complaint alleges violations of section 337 of the Tariff Act of 1930 (19 U.S.C. 1337) in the importation into the United States, the sale for importation, and the sale within the United States after importation of certain flash memory chips and products containing the same by reason of infringement of various claims of United States Patent Nos. 6,380,029, 6,080,639, 6,376,877, and 5,715,194. The complaint names over thirty respondents including Lenovo Group Limited of Hong Kong (“LGL”); Lenovo (Beijing) Limited of China (“LBL”); International Information Products (Shenzhen) Co., Ltd. of China (“IIPC”); Lenovo (Huiyang) Electronic Industrial Co., Ltd. of China (“LEIC”); Shanghai Lenovo Electronic Co., Ltd. of China (“SLE”); Sony Corporation of America of New York, New York (“SCA”); and Kingston Technology Far East (Malaysia), Sdn. Bhd. of Malaysia (“Kingston Malaysia”).

On January 28, 2010, Spansion filed an unopposed motion to amend the complaint and notice of investigation to add Lenovo (Singapore) Pte. Ltd. of Singapore and Sony Electronics Inc. of San Diego, California as respondents to the investigation. Spansion also moved to dismiss Respondents LGL, LBL, IIPC, LEIC, SLE, SCA, and Kingston Malaysia from the investigation.

On February 23, 2010, the ALJ issued the subject ID (Order No. 35) granting Spansion's motion. The ALJ found that, pursuant to Commission Rule 210.14(b)(1) (19 CFR 210.14(b)(1)), good cause exists for the requested amendments to the complaint and notice of investigation. None of the parties petitioned for review of the ID.

The Commission has determined not to review the ID.

The authority for the Commission's determination is contained in section 337 of the Tariff Act of 1930, as amended (19 U.S.C. 1337), and in section 210.42 of the Commission's Rules of Practice and Procedure (19 CFR 210.42).

Issued: March 8, 2010.
By order of the Commission.
Marilyn R. Abbott,
Secretary to the Commission.

[FR Doc. 2010-5414 Filed 3-11-10; 8:45 am]

BILLING CODE 7020-02-P